DEPARTMENT OF THE INTERIOR

Bureau of Land Management

[LLNVS01000 L58530000 ER0000; N-95306 MO# 4500130987]

Notice of Realty Action: Recreation and Public Purposes Act Classification: Nevada

AGENCY: Bureau of Land Management, Interior.

ACTION: Notice of realty action.

SUMMARY: The Bureau of Land Management (BLM) has examined certain public lands in Clark County, Nevada, and has found them suitable for classification for lease or conveyance to Clark County School District under the provisions of the Recreation and Public Purposes (R&PP) Act, as amended, Sec. 7 of the Taylor Grazing Act, and Executive Order No. 6910. Clark County School District proposes to use the land as an elementary school. The lands consist of 15 acres and must conform to the official plat of survey.

DATES: Submit written comments regarding this classification (serialized N-95306) on or before October 15, 2019. Comments may be mailed or hand delivered to the BLM office address below, or faxed to 702-515-5010. The BLM will not consider comments received via telephone calls or email.

ADDRESSES: Mail written comments to the BLM Las Vegas Field Office, Assistant Field Manager, Division of Lands, 4701 North Torrey Pines Drive, Las Vegas, NV 89130. Detailed information including, but not limited to a development and management plan and documentation relating to compliance with applicable environmental and cultural resource laws, is available for review during business hours, 8:00 a.m. to 4:30 p.m. Pacific Time, Monday through Friday, except during Federal holidays, at the BLM Las Vegas Field Office, 4701 North Torrey Pines Drive, Las Vegas, Nevada 89130.

FOR FURTHER INFORMATION CONTACT: Sheryl May, Realty Specialist, by telephone at 702-515-5196. Persons who use a telecommunications device for the deaf may call the Federal Relay Service (FRS) at 1-800-877-8339 to leave a message or question for the above individual. The FRS is available 24 hours a day, 7 days a week. You will receive a reply during normal business hours.

SUPPLEMENTARY INFORMATION: The Clark County School District has not applied for more than the 6,400-acre limitation for recreation uses in a year (or 640 acres if a nonprofit corporation or association), nor more than 640 acres for each of the programs involving public resources other than recreation.

Clark County School District has submitted a statement in compliance with the regulations at 43 CFR 2741.4(b). Clark County School District proposes to use the land as an elementary school.

The area described contains 15-acres in the southwest portion of the Las Vegas Valley, Clark County, Nevada. Clark County School District has filed an application to develop the below-described land for five school buildings, parking for school staff, public parking, busing with pick-up and drop-off points for students, classrooms, botanical learning areas, and a fenced play area. There will also be areas for basketball courts, ball fields, bike racks, shaded rest areas, turf play area, playgrounds, and a tetherball court. Additional information pertaining to this publication, plan of development, and site plan is located in casefile N-95306, which is available for review at the BLM Las Vegas Field Office at the address below. Offsite improvements will be developed as required by governing agencies. The lands are not needed for any other Federal purposes. The lands examined and identified as suitable for lease or conveyance under the R&PP Act are legally described as:

Mount Diablo Meridian, Nevada

T. 21 S, R. 60 E,

Sec. 9, W½ NE¼ SE¼ NW¼ and NW¼ SE¼ NW¼.

The area described contains 15 acres.

Lease or conveyance of the lands for R&PP use is consistent with the BLM Las Vegas Resource Management Plan dated October 5, 1998, and would be of public interest.

All interested parties will receive a copy of this Notice once it is published in the Federal Register and the newspaper of local circulation once a week for three consecutive weeks. The regulations at 43 CFR Subpart 2741 addressing requirements and procedures for conveyances under the R&PP Act do not require a public meeting.

Upon publication of this Notice in the Federal Register, the lands will be segregated from all other forms of appropriation under the public land laws, including locations under the mining laws, except for lease or conveyance under the R&PP Act and leasing under the mineral leasing laws.

The lease or conveyance of the land, when issued, will be subject to the following terms, conditions, and reservations:

1. A rights-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessees/patentee's use, occupancy, or occupations on the leased/patented lands.

6. Any other reservations that the authorized officer determines appropriate to ensure public access and proper management of Federal lands and interests therein.

Interested persons may submit comments involving the suitability of the land for development of an elementary school. Comments on the classification are restricted to whether the land is physically suited for the proposal, whether the use will maximize the future use or uses of the land, whether the use is consistent with local planning and zoning, or if the use is consistent with state and Federal programs.

Interested persons may submit comments regarding the specific use proposal in the application and plan of development and management, whether the BLM followed proper administrative procedures in reaching the decision, or any other factor not directly related to the suitability of the lands for an elementary school.

Any adverse comments will be reviewed by the BLM Nevada State Director or other authorized official of the Department of the Interior, who may sustain, vacate, or modify this realty action. In the absence of any adverse comments, the classification will become effective on October 29, 2019. The lands will not be offered for conveyance until after the classification becomes effective.

Before including your address, phone number, email address, or other personal identifying information in any comment, be aware that your entire comment including your personal identifying information may be made publicly available at any time. While you can ask us in your comment to withhold your personal identifying information from public review, we cannot guarantee that we will be able to do so.

Authority: 43 CFR 2741.5

Shonna Dooman,
Acting Field Manager, Las Vegas Field Office.

[FR Doc. 2019-18836 Filed 8-29-19; 8:45 am]

BILLING CODE 4310-HC-P